DEPARTMENT OF ENERGY

Federal Energy Regulatory Commission

[Docket No. ER97-324-004, et al.]

Detroit Edison Company, et al.; Electric Rate and Corporate Filings

February 4, 2003.

The following filings have been made with the Commission.

The filings are listed in ascending order within each docket classification.

1. Detroit Edison Company, DTE Energy Trading, Inc., DTE Edison America, Inc, DTE Energy Marketing, Inc., DTE Georgetown, LLC, DTE River Rouge No. l, LLC, Crete Energy Venture, LLC

[Docket Nos. ER97-324-004, ER97-3834-010, ER98-3026-007, ER99-3368-003, ER00-1746-001, ER00-1816-002, and ER02-963-002]

Take notice that on January 31, 2003, the Detroit Edison Company, DTE Energy Trading, Inc., DTE Edison America, Inc., DTE Energy Marketing, Inc., DTE Georgetown, LLC, DTE River Rouge No. 1, LLC, and Crete Energy Venture, LLC tendered for filing a joint triennial market power analysis in compliance with the Commission's orders in the captioned proceedings. Detroit Edison Co., 77 FERC ¶ 61,279 (1996); DTE Energy Trading, Inc., 80 FERC ¶ 61,348 (1997); DTE Edison America, Inc., 84 FERC ¶ 61,028 (1998); DTE Energy Marketing, Inc., 88 FERC ¶ 61,189 (1999); DTE Georgetown, LLC, 91 FERC ¶ 61,073 (2000); DTE River Rouge No. l, LLC, 91 FERC ¶ 61,139 (2000); Crete Energy Venture, LLC, letter order, Docket No. ER02-963-000, March 15, 2002.

Comment Date: February 21, 2003.

2. ISO New England Inc.

[Docket No. ER01-316-008]

Take notice that on January 31, 2003, ISO New England Inc., filed its Index of Customers for the fourth quarter of 2002 for its Tariff for Transmission Dispatch and Power Administration Services in compliance with Order No. 614.

Comment Date: February 21, 2003.

3. New York Independent System Operator, Inc., ISO New England Inc.

[Docket No. ER03-246-001]

Take notice that on January 31, 2003., the New York Independent System Operator, Inc. (NYISO) and ISO New England Inc. (ISO New England), tendered for filing a compliance report in connection with the Commission's December 30, 2002, order in the above-referenced dockets.

The NYISO and ISO New England have served a copy of this filing to all parties listed on the official service list maintained by the Secretary of the Commission in docket number ER03-246-000.

Comment Date: February 21, 2003.

4. Virginia Electric and Power Company

[Docket No. ER03-383-001]

Take notice that on January 31, 2003, Virginia Electric and Power Company, doing business as Dominion Virginia Power, tendered for filing a Substitute First Revised Generator Interconnection and Operating Agreement (Substitute First Revised Interconnection Agreement) with Old Dominion Electric Cooperative (ODEC) containing additional information describing the units at ODEC's generating facility and correcting internal references.

Dominion Virginia Power respectfully requests that the Commission allow the Substitute First Revised Interconnection Agreement to become effective February 1, 2003, the day after filing. Dominion Virginia Power also states that copies of the filing were served upon ODEC and the Virginia State Corporation Commission.

Comment Date: February 21, 2003.

5. American Transmission Systems, Incorporated

[Docket No.ER03-474-000]

Take notice that on January 31, 2003, American Transmission Systems, Incorporated submitted for filing Service Agreement No.313 under its Open Access Transmission Tariff, an Agreement for Construction, Operation, and Compensation of Delivery Points with the Village of Grafton dated January 29, 2003. The purpose of the Service Agreement is to establish the terms and conditions for a second 69 kV delivery point for the Village of Grafton's distribution system. An effective date of April 2, 2003, is requested for the Service Agreement.

American Transmission Systems Inc., states that copies of this filing were served on the representatives of the Village of Grafton, American Municipal Power-Ohio, Inc., and the Public Utilities Commission of Ohio.

Comment Date: February 21, 2003.

6. Minnesota Power

[Docket No. ER03-475-000]

Take notice that on January 31, 2003, Minnesota Power tendered for filing the complete wholesale rate schedule, designated as required by Commission Order No. 614, for the City of Hibbing, Minnesota—Public Utilities Commission (Hibbing). This filing included revised rates, which would allow Hibbing the option to purchase wholesale, municipal non-firm energy service from Minnesota Power, for resale to Hibbing's retail customers.

Minnesota Power requests January 1, 2003, as the effective date for these revised rates.

Comment Date: February 21, 2003.

7. Interstate Power & Light Company

[Docket No.ER03-476-000]

Take notice that on January 31, 2003, Interstate Power and Light Company (IPL), tendered for filing Amendment No. 7 to Rate Schedule FERC No. 48 with the City of Bellevue. IPL states that this Amendment will terminate Rate Schedule FERC No. 48 effective April 1, 2003, and indicates that copies of the filing have been provided to the City of Bellevue and to the Iowa Utilities Board.

Comment Date: February 21, 2003.

8. Southern California Edison Company

[Docket No. ER03-477-000]

Take notice that on January 31, 2003, Southern California Edison Company (SCE) tendered for filing a Service Agreement For Wholesale Distribution Service under SCE's Wholesale Distribution Access Tariff and an Interconnection Facilities Agreement (Agreements) between SCE and the City of Corona (Corona), California. SCE respectfully requests the Agreements become effective on January 4, 2003.

The Agreements specify the terms and conditions under which SCE will provide wholesale distribution service form the California Independent System Operator Controlled Grid at SCE's Mira Loma Substation 230 kV bus to the Corona Crossings Business Center development, located at the Northwest corner of Cajalco Road and Temescal Canyon Road in the City of Corona.

SCE states that copies of this filing were served upon the Public Utilities Commission of the State of California and Corona.

Comment Date: February 21, 2003.

9. PPM Energy, Inc.

[Docket No. ER03-478-000]

Take notice that on January 31, 2003, PacifiCorp Power Marketing, Inc., informed the Federal Energy Regulatory Commission (Commission) that effective January 15, 2003, the name of PacifiCorp Power Marketing, Inc., had been changed to PPM Energy, Inc. in accordance with 18 CFR 35.16.

Comment Date: February 21, 2003.

10. Great Bay Power Marketing, Inc.

[Docket No. ER03-479-000]

Take notice that on January 31, 2003, Great Bay Power Marketing, Inc. (GBPM), filed a notice of succession with the Federal Energy Regulatory Commission pursuant to sections 35.16 and 131.51 of the Commission's rules and regulations, 18 CFR 35.16 and 131.51. This filing was made as a result of the transfer of a purchased power agreement entered into between Great Bay Power Corporation (GBPC) and Unitil Power Corp. (Unitil PPA) from GBPC to GBPM. GBPM adopted and ratified the Unitil PPA. GBPM requested that the revised rate schedule be made effective as of January 1, 2003.

Comment Date: February 21, 2003.

11. Oklahoma Gas and Electric Company

[Docket No. ER03-480-000]

Take notice that on January 31, 2003, Oklahoma Gas and Electric Company (OG&E) submitted for filing a delivery point and transmission interconnection agreement (the Agreement) between OG&E and The City of Paris, Arkansas (Paris).

OG&E requests an effective date of February 1, 2003, for the Agreement. Accordingly, OG&E requests waiver of the Commission's notice requirements. Copies of this filing were served upon Paris and the Oklahoma Corporation Commission.

Comment Date: February 21, 2003.

12. Duke Energy Corporation

[Docket No.ER03-481-000]

Take notice that on January 31, 2003, Duke Energy Corporation, on behalf of Duke Electric Transmission, (collectively, Duke) tendered for filing the First Amended and Restated Generation Interconnection and Operating Agreement (Restated IOA) between Duke and Rowan County Power, LLC, as the successor in interest to Carolina Power and Light Company. Duke seeks an effective date for the restated IOA of January 30, 2003.

Comment Date: February 21, 2003.

13. Duke Energy Corporation

[Docket No.ER03-482-000]

Take notice that on January 31, 2003, Duke Energy Corporation, on behalf of Duke Electric Transmission, (collectively, Duke) tendered for filing (1) a revised Service Agreement for Network Integration Transmission Service (NITSA) and (2) a revised Network Operating Agreement (NOA) between Duke and North Carolina Municipal Power Authority No. 1. Duke seeks an effective date for the revised NITSA and NOA of January 1, 2003.

Comment Date: February 21, 2003.

14. Unitil Power Corp.

[Docket No. ER03-483-000]

Take notice that on January 31, 2003., in accordance with section 35.13 of the Commission's regulations, 18 CFR 35.13, Unitil Power Corp. (UPC) and Unitil Energy Systems, Inc. (UES) (collectively, Unitil Companies) submitted for filing the Amended Unitil System Agreement between UPC and UES. The Amended Unitil System Agreement is Attachment I to Rate Schedule FERC No. 1 (the Unitil System Agreement). The Amended Unitil System Agreement is necessary to facilitate the divestiture of the portfolio of entitlements in generation and transmission facilities acquired by UPC to supply the requirements of UES. Following the divestiture of such portfolio and upon receipt of the necessary regulatory approvals, the terms and conditions, including rate provisions of the Amended Unitil System Agreement will replace those of the Unitil System Agreement. The Unitil Companies request an effective date of May 1, 2003, for the Amended Unitil System Agreement, but reserves the right not to implement the Amended Unitil System Agreement if the necessary regulatory approvals are not obtained.

The Unitil Companies states that a copy of the filing was served upon the New Hampshire Public Utilities Commission.

Comment Date: February 21, 2003.

15. New England Power Pool

[Docket No. ER03-484-000]

Take notice that on January 31, 2003, the New England Power Pool (NEPOOL) Participants Committee filed for acceptance materials to (1) permit NEPOOL to expand its membership to include Lake Road Generating Company, LP (Lake Road) and Outback Power Marketing, Inc., (Outback); and (2) to terminate the memberships of Allied Utility Network (Allied), Enron Power Marketing, Inc., (EPMI), Great Bay Power Corporation (GBPC), MIECO Inc., (MIECO), and PSEG Power Connecticut, LLC, (PSEG PCT). The Participants Committee requests the following effective dates: January 1, 2003, for the termination of Allied, EPMI, GVPC, MIECO, and PSEG PCT; February 1, 2003, for the commencement of participation in NEPOOL by Lake Road; and March 1, 2003, for commencement of participation in NEPOOL by Outback.

The participants Committee states that copies these materials were sent to the New England state governors and regulatory commissions and the Participants in NEPOOL.

Comment Date: February 21, 2003.

16. Gilroy Energy Center, LLC

[Docket No. ER03-485-000]

Take notice that on January 31, 2003, Gilroy Energy Center, LLC (Gilroy) filed an executed Must-Run Service Agreement and accompanying schedules (RMR Agreement) between Gilroy and the California Independent System Operator Corporation (ISO) setting forth the rates, terms and conditions under which Gilroy will provide reliability must-run services to the ISO.

Comment Date: February 21, 2003.

17. PJM Interconnection, LLC

[Docket No. ER03-486-000]

Take notice that on January 31, 2003, PJM Interconnection, LLC (PJM), submitted amendments to Schedule 2 of the PJM Open Access Transmission Tariff to include WPS Westwood Generation LLC's (Westwood) revenue requirement for Reactive Supply and Voltage Control from Generation Sources Service that the Federal Energy Regulatory Commission (Commission) accepted for filing, subject to refund, in WPS Westwood Generation, LLC, 101 FERC ¶ 61,290.

Consistent with the effective date of the Commission's acceptance of Westwood's revenue requirements in WPS Westwood Generation, LLC, 101 FERC ¶ 61,290 PJM requests an effective date of November 1, 2002, for the amendments.

PJM states that copies of this filing have been served on all PJM members, Westwood, and each state electric utility regulatory commission in the PJM region.

Comment Date: February 21, 2003.

18. Idaho Power Company

[Docket No. ER03-487-000]

Take notice that on January 31, 2003, Idaho Power Company (Idaho Power) tendered for filing two Service Agreements for Network Integration Transmission Service (NITSAs) (with attached Network Operating Agreements (NOAs)) with Idaho Power Company—Power Supply.

Comment Date: February 21, 2003.

19. Idaho Power Company

[Docket No. ER03-488-000]

Take notice that on January 31, 2003, Idaho Power Company (Idaho Power) tendered for filing (1) four Service Agreements for Network Integration Transmission Service (NITSAs) (with attached Network Operating Agreements (NOAs)) ; and (2) the Boise Diversion Dam Letter Agreement between Idaho Power and Bonneville Power Association (BPA).

Comment Date: February 21, 2003.

20. Mid-America Energy Company

[Docket No. ES03-22-000]

Take notice that on January 28, 2003, Mid-American Energy Company (Mid-American) submitted an application pursuant to section 204 of the Federal Power Act seeking authorization to issue promissory notes and other evidences of short-term, unsecured indebtedness, in an amount not to exceed $500 million.

Comment Date: February 24, 2003.

Standard Paragraph

Any person desiring to be hear or to protest said filing should file a motion to intervene or protest with the Federal Energy Regulatory Commission, 888 First Street, NE., Washington, DC 20426, in accordance with rules 211 and 214 of the Commission's rules of practice and procedure (18 CFR 385.211 and 18 CFR 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-3554 Filed 2-12-03; 8:45 am]

BILLING CODE 6717-01-P